DEPARTMENT OF ENERGY

Federal Energy Regulatory Commission

[Docket No. CP08-97-000]

Northern Natural Gas Company; Notice of Request Under Blanket Authorization

April 3, 2008.

Take notice that on March 25, 2008, Northern Natural Gas Company (Northern), 1111 South 103rd Street, Omaha, Nebraska 68124, filed in Docket No. CP08-97-000, a prior notice request pursuant to sections 157.205, 157.208, 157.210, and 157.211 of the Federal Energy Regulatory Commission's regulations under the Natural Gas Act for authorization to install and operate the West Leg II Project, located within the states of Nebraska and Iowa, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, Northern proposes to install and operate: (i) Approximately 0.89 mile of a 30-inch diameter mainline extension to its existing SSC-Paulina C-Line mainline, located in Woodbury County, Iowa; (ii) approximately 10.94 miles of 8-inch diameter branch line loop beginning at a take-off valve on the existing 8-inch diameter Columbus A-Line, located in Colfax County, Nebraska, and ending in the existing Columbus #4 Town Border Station (TBS) yard, located in Platte County, Nebraska; (iii) modify and upgrade an existing TBS, the Columbus #4 TBS, located in Platte County, Nebraska, by replacing the inlet piping and regulator setting and associated fittings, valves, and piping; and (iv) appurtenant section 2.55(a) facilities. Northern estimates the cost of construction to be $9,128,966. Northern states that the modifications proposed are necessary to provide an incremental 11 MMcf/d of natural gas effective October 1, 2008, to meet the firm winter obligations as contracted with Archer Daniels Midland Company.

Any questions regarding the application should be directed to Michael T. Loeffler, Senior Director, Certificates and External Affairs, Northern Natural Gas Company, 1111 South 103rd Street, Omaha, Nebraska 68124, call (402) 398-7103 or Donna Martens, Senior Regulatory Analyst, at (402) 398-7138.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the Internet in lieu of paper. See 18 CFR 385.2001(a) (1) (iii) and the instructions on the Commission's Web site (http://www.ferc.gov) under the “e-Filing” link.

Kimberly D. Bose,
Secretary.

[FR Doc. E8-7607 Filed 4-9-08; 8:45 am]

BILLING CODE 6717-01-P